DEPARTMENT OF STATE

[Public Notice: 9499]

Determination and Certification Under Section 490(b)(l)(A) of the Foreign Assistance Act Relating to the Largest Exporting and Importing Countries of Certain Precursor Chemicals

Pursuant to Section 490(b)(l)(A) of the Foreign Assistance Act of 1961, as amended, I hereby determine and certify that the top five exporting and importing countries and economies of pseudoephedrine and ephedrine (China, Egypt, Germany, India, Indonesia, Singapore, South Korea, Switzerland, Taiwan ¹ Turkey, and the United Kingdom) have cooperated fully with the United States, or have taken adequate steps on their own, to achieve full compliance with the goals and objectives established by the 1988 United Nations Convention Against Illicit Traffic in Narcotic Drugs and Psychotropic Substances.

¹ With respect to all references to “country “or “countries” on this page, it should be noted that the Taiwan Relations Act of 1979, Public Law 96-8, Section 4(b)(l), provides that “[w]henever the laws of the United States refer or relate to foreign countries, nations, states, governments, or similar entities, such terms shall include and such laws shall apply with respect to Taiwan.” 22 U.S.C. 3303(b)(l).

This Determination and Certification shall be published in the Federal Register and copies shall be provided to Congress, together with the accompanying Memorandum of Justification.

Dated March 14, 2016.
Antony J. Blinken,
Deputy Secretary of State.

[FR Doc. 2016-06954 Filed 3-25-16; 8:45 am]

BILLING CODE 4710-17-P